SECURITIES AND EXCHANGE COMMISSION

[Release No. 35-27635]

Filings Under the Public Utility Holding Company Act of 1935, As Amended (“Act”)

January 6, 2003.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by January 27, 2003, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After January 27, 2003, the application(s) and/or declaration(s), as filed or as amended, may be granted and/or permitted to become effective.

Dominion Resources, Inc. (70-9477)

Dominion Resources, Inc., (“DRI”), 120 Tredegar Street, Richmond, VA 23219, a registered holding company under the Act, has filed a post-effective amendment to its application-declaration in this file under section 10 of the Act.

DRI requests authorization to continue its process of divesting the holdings of its subsidiary Dominion Capital, Inc., (“DCI”) beyond the third anniversary of the effective date of the merger (January 28, 2000) authorized in the Commission's order of December 15, 1999 (HCAR No. 27113) (“Merger Order”), authorizing DRI's proposed acquisition of Consolidated Natural Gas Company (“Merger”).

At the time of the Merger Order DCI was, through its subsidiaries, a diversified financial services company with its core operations in commercial finance, corporate finance, and consumer finance. Under the terms of the Merger Order, DCI and each of its subsidiaries were to be divested within three years of the Merger.¹ DRI states that in accordance with the Merger Order DRI has diligently undertaken to divest the businesses and assets of DCI. DRI states that it has succeeded in reducing the assets of DCI by a factor of two thirds, from a balance as of December 31, 1999, of $3,576,460,000 to a balance as of September 30, 2002, of $1,175,164,000. DRI states that its efforts to divest itself of DCI have been frustrated by the economic recession, low interest rates, and the diverse assets held by DCI. DRI therefore requests that the Commission issue an order authorizing an extension of the time to accomplish divestiture until January 28, 2006, and reserve jurisdiction over any further extension of time which may be required.

¹ DRI was allowed to retain the owner-lessor interest held by DCI in a hydroelectric facility in Vidalia, Louisiana that is leased to Catalyst Old River Hydroelectric Limited Partnership.

DRI states that it proposes to continue an expeditious and prudent program of divesting the assets and lines of business of DCI and to apply the resulting proceeds to reduce the debt portion of DRI's consolidated capitalization. DRI proposes to conduct an annual evaluation as of June 30th of each year of the feasibility of expediting the divestiture of DCI's remaining assets and lines of business in light of changing business and financial market conditions (including the relative feasibility of selling assets at that time or subsequently in order to recover fair value).

For the Commission by the Division of Investment Management, pursuant to delegated authority.
Margaret H. McFarland,
Deputy Secretary.

[FR Doc. 03-498 Filed 1-9-03; 8:45 am]

BILLING CODE 8010-01-P